DEPARTMENT OF COMMERCE

National Oceanic and Atmospheric Administration

Agency Information Collection Activities; Submission to the Office of Management and Budget (OMB) for Review and Approval; Comment Request; Developing, Testing, and Evaluating Methods for Transitioning the Brief Vulnerability Overview Tool (BVOT) to NWS Weather Forecasting Office Operations

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on 06/17/2022 (87 FR 36465) during a 60-day comment period. This notice allows for an additional 30 days for public comments.

Agency: National Oceanic and Atmospheric Administration, Commerce.

Title: Developing, Testing, and Evaluating Methods for Transitioning the Brief Vulnerability Overview Tool (BVOT) to NWS Weather Forecasting Office Operations.

OMB Control Number: 0648-XXXX.

Form Number(s): None.

Type of Request: Regular (New information collection).

Number of Respondents: 140.

Average Hours per Response: Vulnerability Mapping: 1 hour; Background Interview: 1.5 hours (only being conducted with a sample of EMs, ~100); Trust Survey: 0.25 hours (once at the start of the study and one at the end of the study).

Total Annual Burden Hours: 120 hours.

Needs and Uses: This is a request for a new collection of information.

The data collection is sponsored by DOC/NOAA/National Weather Service (NWS)/Office of Science and Technology Integration (OSTI). Currently, NOAA lacks data and data collection instruments that can capture local, knowledge-based, weather hazard vulnerability information from NWS WFO meteorologists and their CWA-based core partners (especially, their county-based emergency managers (EMs). Without this vulnerability information, WFO-level meteorologists' situational awareness of the greatest concerns of and risks to local communities often suffer. In addition, during situations where a WFO must rely on a back-up office due to a WFO being affected by severe weather conditions (e.g., having to shelter, losing power due to the impacts of a hurricane, tornado outbreak, etc.), back-up WFOs rarely have the situational awareness of the critical areas of concern to local core partners and, thus, are less able to communicate mission critical messaging to those core partners. Without this type of local vulnerability information, NOAA, and the NWS specifically, is limited in its ability to meet its mission of saving lives and property as outlined in the Weather Research and Forecasting Innovation Act of 2017 (especially Pub. L. 115-25 Sec. 405.d.1.A, 405.d.1.B, Sec 406.c.2.B). This effort aims to advance the Tornado Warning Improvement and Extension Program (TWIEP)'s goal to “reduce the loss of life and economic losses from tornadoes through the development and extension of accurate, effective, and timely tornado forecasts, predictions, and warnings, including the prediction of tornadoes beyond one hour in advance (Pub. L. 115-25)”. This work addresses NOAA's 5-year Research and Development Vision Areas (2020-2026) Section 1.4 (FACETs). This effort also advances the NWS Strategic Plan (2019-2022) “Transformative Impact-Based Decision Support Services (IDSS) and Research to Operations and Operations to Research (R2O/O2R). The BVOT would contribute to the NWS Weather Ready Nation (WRN) Roadmap (2013) Sections 1.1.1, 1.1.2, 1.1.3, 1.1.8, and 3.1.4. In addition, because the BVOT is “hazard agnostic”—it is used to collect vulnerabilities based on different weather hazards and can be organized to display those vulnerabilities only related to those specific hazards that are relevant to an NWS WFO at any given moment—it can be seen to help advance a number of hazard-specific congressional laws including (but, not limited to) those related to tsunamis (Pub. L. 109-424 Sec. 5.b.4, 5.c.2, 5.c.3, Sec. 6; Public Law 115-25 Sec. 505.c.5.B and Sec. 505.d.1) and the recently introduced TORNADO Act (S.3817 Sec. 3.b.6.C).

This study will assess the feasibility of NWS WFOs working with their local core partners to collect local known vulnerability points associated with specific types of weather hazards in order to populate a simple (but agile) GIS shapefile that can be used to provide WFO-level meteorologists with situational awareness of the vulnerabilities of greatest concern in their CWAs. This vulnerability awareness tool—the Brief Vulnerability Overview Tool (BVOT)—has been designed by researchers at the University of Oklahoma's Center for Applied Social Research (CASR) and Center for the Analysis and Prediction of Storms (CAPS), and it would permit NWS WFOs to work closely with their core partners to collect initial vulnerability points and to update those points in a efficient manner that would require little training and little effort through the use of widely available, simple online data collection methods.

Research participants will include adult (age 18+) NWS WFO meteorologists and their core partners (primarily the county emergency managers (EMs)) from four WFOs around the country. Participants will be asked to participate in a number of background interviews. In addition, they will be asked to complete an online (Qualtrics) survey assessing the attachment, trust, and knowledge of WFO meteorologists and their core partners. This survey will be conducted pre-/post- study in order to identify changes over time. Participants will also be asked to contribute to and learn how to maintain and use a Brief Vulnerability Overview Tool (BVOT)—a GIS shapefile-based way of collecting and displaying local, known vulnerability points within the existing operational environment of NWS WFOs.

The creation of a BVOT provides a number of benefits over and above current efforts within the NWS. These include (1) improved situational awareness for NWS WFO meteorologists; (2) improved spatial awareness of vulnerabilities of greatest concerns to core partners can prompt and fine-tune messaging and DSS provided to these core partners; (3) improved spatial situational awareness for backup offices if an NWS WFO loses its capacity to operate; (4) improved training and orientation for meteorologists who are new to an NWS WFO; (5) providing a structured requirement for maintaining an evolving, “living” database of vulnerabilities that can be shared and equally accessed across the WFO and the NWS; and (6) providing opportunities to improve the trust, communication, and rapport between an NWS WFO and its core partners through the collaborative construction and periodic updating of the BVOT.

Affected Public: State, Local, or Tribal government.

Frequency: Once or twice during the study.

Respondent's Obligation: Voluntary.

Legal Authority: 15 U.S.C. Ch. 111, Weather Research and Forecasting Information.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering the title of the collection.

Sheleen Dumas,
Department PRA Clearance Officer, Office of the Chief Information Officer, Commerce Department.

[FR Doc. 2022-21582 Filed 10-4-22; 8:45 am]

BILLING CODE 3510-KE-P